DEPARTMENT OF COMMERCE

National Oceanic and Atmospheric Administration

[I.D. 040202A]

New England Fishery Management Council; Public Meeting

AGENCY: National Marine Fisheries Service (NMFS), National Oceanic and Atmospheric Administration (NOAA), Commerce.

ACTION: Notice of cancellation of public meeting.

SUMMARY: The New England Fishery Management Council (Council) has cancelled a public meeting of its Monkfish Oversight Committee that was scheduled for April 10-11, 2002.

FOR FURTHER INFORMATION CONTACT: Paul J. Howard, Executive Director, New England Fishery Management Council, 50 Water Street, Newburyport, MA 01950, telephone: (978) 465-0492.

SUPPLEMENTARY INFORMATION: The initial notice was published on March 20, 2002 (see 67 FR 12976, March 20, 2002). The meeting will be rescheduled at a later date and announced in the Federal Register.

Dated: April 2, 2002.
Richard W. Surdi,
Acting Director, Office of Sustainable Fisheries, National Marine Fisheries Service.

[FR Doc. 02-8334 Filed 4-4-02; 8:45 am]

BILLING CODE 3510-22-S